DEPARTMENT OF AGRICULTURE

Forest Service

Black-tailed Prairie Dog Conservation and Management on the Nebraska National Forest and Associated Units

AGENCY: Forest Service, USDA.

ACTION: Correction—to add USDA, Animal Plant Health Inspection Service—Wildlife Services (APHIS—WS), and the State of South Dakota as formal Cooperating Agencies with the Nebraska National Forest and Associated Units in the Notice of Intent to prepare an Environmental Impact Statement (EIS). Add e-mail address for electronic comments.

SUMMARY: The Forest Service published a document in the Federal Register on November 1, 2004, providing notice that the Nebraska National Forest and Associated Units was intending to prepare an Environmental Impact Statement regarding the conservation and management of the black-tailed prairie dog. The document failed to note that the USDA, APHIS—WS and the State of South Dakota are formally designated Cooperating Agencies with the Forest Service in the preparation of the environnmental impact statement.

FOR FURTHER INFORMATION CONTACT: William Perry, 605-279-2125.

Correction

In the Federal Register of November 1, 2004 (Volume 69, Number 210), on page 63351 prior to the subheading “Scoping,” insert a subheading “Cooperating Agencies.” Following the subheading “Cooperating Agencies” insert the following—“USDA, Animal Plant Health Inspection Service—Wildlife Service (APHIS—WS) and the State of South Dakota have been granted cooperating agency status for the purpose of cooperating and coordinating with the Forest Service in providing relevant research and information to be used in the development of EIS alternatives and implementation of management plan direction” Under the subheading “Responsible Official,” (page 63351) following the address add “E-mail comments to: comments-rocky-mountain-nebraska@fs.fed.us”

Dated: November 22, 2004.
Donald J. Bright,
Forest Supervisor, Nebraska National Forest and Associated Units.

[FR Doc. 04-27079 Filed 12-9-04; 8:45 am]

BILLING CODE 3410-11-M